ENVIRONMENTAL PROTECTION AGENCY

[ER-FRL-6652-2]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in FR dated April 2, 2004 (69 FR 17403).

Draft EISs

ERP No. D-AFS-J65403-00 Rating EC2, Southern Rockies Canada Lynx Amendment, Incorporating Management Direction for Canada Lynx Habitat by Amending Land and Resource Management Plans for Arapaho-Roosevelt, Pike-San Isabel, Grand Mesa-Uncompahgre-Gunnison, San Juan, Rio Grande and Medicine Bow-Routt National Forests, Implementation, CO and WY.

Summary: EPA expressed environmental concerns with potential adverse impacts from the Preferred Alternative's proposal to reduce Canada Lynx protections established by the U.S. Fish and Wildlife Service. EPA recommended that the Final EIS examine direct and cumulative impacts to water quality and from recreation.

ERP No. D-AFS-J65411-MT Rating EC2, Snow Talon Fire Salvage Project, Proposes to Salvage Harvest Trees Burned in the Fire, Helena National Forest, Lincoln Ranger District, Lewis and Clark County, MT.

Summary: EPA expressed environmental concerns with potential adverse impacts to soil and water quality from proposed salvage harvest on burned soils via summer tractor logging, as well as proposed salvage harvests in roadless areas. EPA's concerns also include potential effects on roadless characteristics, and the lack of air quality analysis for proposed burning of slash. This information and analysis should be included in the final EIS to fully assess and mitigate potential impacts of the management actions.

ERP No. D-AFS-J65412-MT Rating EC2, Grasshopper Fuels Management Project, Modify Vegetation Conditions, Reduce Fuel Loads and Break up Fuel Continuity, Beaverhead-Deerlodge National Forest, Dillon Ranger District, Beaverhead County, MT.

Summary: EPA supports the reduction of fire risks, but expressed environmental concerns with potential impacts to water quality and the need to avoid further degradation of 303(d) listed Grasshopper Creek and demonstrate consistency with TMDL development for Grasshopper Creek.

ERP No. D-AFS-L65454-OR Rating EC2, Diamond Lake Restoration Project, Improve Water Quality and the Recreational Fishery, Umpqua National Forest, Diamond Lake Ranger District, Umpqua River Basin, Douglas County, OR.

Summary: EPA expressed concerns with the lack of specificity of the adaptive management strategy that would be used following rotenone treatment of the lake. EPA recommended that additional information be included in the final EIS related to monitoring, fish stocking, tui chub contingency planning, preventing tui chub reintroduction, nutrient loading downstream of Diamond Lake and the dewatering of Lake Creek.

ERP No. D-AFS-L65456-AK Rating EC2, Resurrection Creek Stream and Riparian Restoration Project, Proposes to Accelerate the Recovery of Riparian Areas, Fish and Wildlife Habitat, Chugach National Forest, Seward Ranger District, Kenai Peninsula Borough, AK.

Summary: EPA expressed environmental concerns with the potential release of mercury from restoration activities to the creek and the ultimate placement and disposal of the tailings. EPA recommended that the final EIS detail where the tailings will be placed and provide additional information on the mitigation measures related to identifying and disposal of mercury found during project implementation.

ERP No. DS-AFS-L65378-ID Rating LO, Clean Slate Ecosystem Management Project, Aquatic and Terrestrial Restoration, Updated Information, Alternatives for the Identifies Unroaded Areas, Nez Perce National Forest, Salmon River Ranger District, Idaho County, ID.

Summary: EPA has no objections to the action as proposed.

Final EISs

ERP No. F-AFS-B65010--VT Greendale Project, Establishment of the Desired Condition stated in the Green Mountain National Forest Land and Resource Management Plan, Manchester Ranger District, Town of Western, Windor County, VT.

Summary: EPA has no objections to the project.

ERP No. F-AFS-E65065-KY Daniel Boone National Forest Land and Resource Management Plan Revision, Implementation, Winchester, several counties, KY.

Summary: EPA expressed environmental concerns due to impacts to water quality and provided additional comments to strengthen forest wide standards and monitoring commitments to protect water quality.

ERP No. F-AFS-J65395-WY Lost Cabin Mine Project, Improvement of Historic Mining Road (Way 4170H) to Allow Motorized Access to the Lost Mine for Mineral Exploration, Plan-of -Operations, Medicine-Bow Routt National Forests and Thunder Basin National Grassland, Carbon County, WY.

Summary: No formal comment letter was sent to the preparing agency.

ERP No. F-FAA-B51020-CT Groton-New London Airport, Construction of Runway 5-23 Safety Area, Permits and Approvals, Town of Groton, New London County, CT.

Summary: EPA has no objections to the proposed project.

ERP No. F-FHW-C40160-NY Cumberland Head Connector Road Construction, County Road 57 between U.S. 9 and the Peninsula (known as the Parkway), Funding, Town of Plattsburg, Clinton County, NY.

Summary: EPA continues to express concerns regarding project wetland impacts.

ERP No. F-FHW-F40404-MN Trunk Highway (TH) 53 Project, Transportation Improvements, from 1.2 km (3/4 mile) South of St. Louis County Road 307 to the South City Limits of Cook, NPDES Permit, COE Section 10 and 404 Permits, St. Louis County, MN.

Summary: EPA continues to express concern related to wetland mitigation. EPA requests additional mitigation information be included in the Record of Decision.

ERP No. F-NPS-B61024-MA

Boston Harbor Islands National Recreation Area, Implementation, General Management Plan, Boston, MA.

Summary: EPA has no objections to the project.

ERP No. FA-FHW-B40037-RI Jamestown Bridge Replacement, Funding, North Kingstown and Jamestown, Washington and Newport Counties, RI.

Summary: EPA has no objection to the proposed project. However, EPA requests clarification on issues related to fisheries and air emissions.

Dated: June 1, 2004.
Ken Mittelholtz,
Environmental Protection Specialist, Office of Federal Activities.

[FR Doc. 04-12704 Filed 6-3-04; 8:45 am]

BILLING CODE 6560-50-P